DEPARTMENT OF HEALTH AND HUMAN SERVICES

Centers for Disease Control and Prevention

[30Day-23-22FT]

Agency Forms Undergoing Paperwork Reduction Act Review

In accordance with the Paperwork Reduction Act of 1995, the Centers for Disease Control and Prevention (CDC) has submitted the information collection request titled “Enhanced Surveillance of Respiratory Illness Among People Experiencing Homelessness in Anchorage, Alaska” to the Office of Management and Budget (OMB) for review and approval. CDC previously published a “Proposed Data Collection Submitted for Public Comment and Recommendations” notice on June 2, 2022 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Enhanced Surveillance of Respiratory Illness Among People Experiencing Homelessness in Anchorage, Alaska—New—National Center for Emerging and Zoonotic Infectious Diseases (NCEZID), Centers for Disease Control and Prevention (CDC).

Background and Brief Description

People experiencing homelessness are at higher risk for respiratory infectious diseases. However, the causes of these infections are not well understood. This project involves enhanced surveillance for organisms that cause respiratory illness in congregate and non-congregate homeless shelters to provide evidence to improve public health for people who are experiencing homelessness in Anchorage, Alaska.

The project team will collect an upper respiratory specimen (e.g., nasopharyngeal swab) from people experiencing respiratory symptoms who are accessing shelters. A member from the project team will complete demographic questions and a short symptom questionnaire with the participant. Swabs obtained from study participants will be tested for multiple respiratory pathogens to: (1) estimate the burden of pathogen-specific respiratory infections among people experiencing homelessness; (2) inform infection control; and (3) determine the vaccination status of people in this population.

CDC requests OMB approval for an estimated 500 annual burden hours for this collection. There is no cost to respondents other than their time to participate.

Estimated Annualized Burden Hours
Type of respondents | Form name | Number of respondents | Number of responses per respondent | Average burden per respons (in hours)
Persons with Respiratory Symptoms Experiencing Homelessness | Enrollment in Symptom Screening | 1,000 | 1 | 30/60

Jeffrey M. Zirger,
Lead, Information Collection Review Office, Office of Scientific Integrity, Office of Science, Centers for Disease Control and Prevention.

[FR Doc. 2022-25242 Filed 11-18-22; 8:45 am]

BILLING CODE 4163-18-P